DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Jack Gayden, Memphis, TN, PRT-043613

The applicant requests a permit to import the sport-hunted trophy of one male bontebok (Damaliscus pygargus dorcas) culled from a captive herd maintained under the management program of the Republic of South Africa, for the purposes of enhancement of the survival of the species.

Applicant: Alan Chopp, Edison, NJ, PRT-044694

The applicant requests a permit to import the sport-hunted trophy of one male bontebok (Damaliscus pygargus dorcas) culled from a captive herd maintained under the management program of the Republic of South Africa, for the purposes of enhancement of the survival of the species.

Applicant: Jeffrey Everett Rhees, Oakwood, OH, PRT-040140

The applicant requests a permit to import the sport-hunted trophy of one male bontebok (Damaliscus pygargus dorcas) culled from a captive herd maintained under the management program of the Republic of South Africa, for the purposes of enhancement of the survival of the species.

Applicant: Ludwid F. Kroner, III, Rock Springs, WY, PRT-044693

The applicant requests a permit to import the sport-hunted trophy of one male bontebok (Damaliscus pygargus dorcas) culled from a captive herd maintained under the management program of the Republic of South Africa, for the purposes of enhancement of the survival of the species.

Applicant: Glenn D. Vondra, Johnston, IA, PRT-044701

The applicant requests a permit to import the sport-hunted trophy of one male bontebok (Damaliscus pygargus dorcas) culled from a captive herd maintained under the management program of the Republic of South Africa, for the purposes of enhancement of the survival of the species.

Applicant: Russell J. Lafave, Midland, MI, PRT-044744

The applicant requests a permit to import the sport-hunted trophy of one male bontebok (Damaliscus pygargus dorcas) culled from a captive herd maintained under the management program of the Republic of South Africa, for the purposes of enhancement of the survival of the species.

Applicant: William K. Wright, Jr., Virginia Beach, VA, PRT-044761

The applicant requests a permit to import the sport-hunted trophy of one male bontebok (Damaliscus pygargus dorcas) culled from a captive herd maintained under the management program of the Republic of South Africa, for the purposes of enhancement of the survival of the species.

Applicant: William K. Wright, Virginia Beach, VA, PRT-044762

The applicant requests a permit to import the sport-hunted trophy of one male bontebok (Damaliscus pygargus dorcas) culled from a captive herd maintained under the management program of the Republic of South Africa, for the purposes of enhancement of the survival of the species.

Applicant: Zoological Society of San Diego, Escondido, CA, PRT-042002

The applicant requests a permit to import one male captive-born lion-tailed macaque (Macaca silenus) from the Toronto Zoo, Ontario, Canada, for the purpose of enhancement of the survival of the species through captive propagation.

Applicant: Feld Entertainment, Inc. dba Ringling Brothers and Barnum & Bailey, Vienna, VA, PRT-043769 and 043770

The applicant requests a permit to export, re-export and re-import captive born and captive-held Asian elephants (Elephas maximus), captive born tigers (Panthera tigris), captive born Bengal tigers (Panthera tigris tigris) and progeny of the animals currently held by the applicant and any animals acquired in the United States by the applicant to/from worldwide locations to enhance the survival of the species through conservation education. This notification covers activities conducted by the applicant over a three-year period.

Applicant: Kellie Heckman/Northwestern University, Evanston, IL, PRT-041135

The applicant requests a permit to import biological samples from woolly lemur (Avahi laniger), aye-aye (Daubentonia madagascariensis), brown lemur (Eulemur fulvus), red-bellied lemur (Eulemur rubriventer), golden bamboo lemur (Hapalemur aureus), grey gentile lemur (Hapalemur griseus), broad-nosed gentile lemur (Hapalemur simus), sportive lemur (Lepilemur mustelinus), diademed sifaka (Propithecus diadema), ruffed lemur (Varecia variegata), greater dwarf lemur (Cheirogaleus major), and brown mouse lemur (Microcebus rufus) collected in the wild in Madagascar, for scientific research.

Applicant: AZA Rhinoceros Advisory Group (Rhino TAG) on behalf of Fossil Rim Wildlife Center, Glen Rose, TX, PRT-042655

The applicant requests a permit to import 1.0 captive-born black rhinoceros (Diceros bicornis) from the Western Plains Zoo, Dubbo, Australia for the purpose of enhancement of the species through captive propagation.

Applicant: AZA Rhinoceros Advisory Group (Rhino TAG) c/o The Wilds, Cumberland, OH, PRT-042654

The applicant requests a permit to export 2.0 captive-born black rhinoceros (Diceros bicornis) to the Mkomazi Rhino Sanctuary, Mkomazi Game Reserve, Kilimanjaro Region, Tanzania, to enhance the survival of the species through reintroduction into the wild.

Applicant: Nancy Ellen Drilling/University of Minnesota, St. Paul. MN, PRT-042484

The applicant requests a permit to import feathers from white-winged duck (Cairina scutulata) collected in the wild in Indonesia, for scientific research.

Marine Mammals

The public is invited to comment on the following application(s) for a permit to conduct certain activities with marine mammals. The application(s) was submitted to satisfy requirements of the Marine Mammal Protection Act of 1972, as amended (16 U.S.C. 1361, et seq.) and the regulations governing marine mammals (50 CFR 18).

Written data, comments or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Charles W. Helscel, Owasso, OK, PRT-044695

The applicant requests a permit to import a polar bear (Ursus maritimus) sport-hunted from the Northern Beaufort Sea polar bear population in Canada for personal use, taken May, 2001.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: June 22, 2001.
Michael S. Moore,
Senior Permit Biologist, Branch of Permits, Division of Management Authority.

[FR Doc. 01-16708 Filed 7-2-01; 8:45 am]

BILLING CODE 4310-55-P